DEPARTMENT OF DEFENSE

Office of the Secretary

Charter Re-Establishment of Department of Defense Federal Advisory Committees

AGENCY: Department of Defense.

ACTION: Re-establishment of Federal Advisory Committee.

SUMMARY: The Department of Defense (DoD) is publishing this notice to announce that it is re-establishing the Board of Advisors to the Presidents of the Naval Postgraduate School and the Naval War College (“the Board”).

FOR FURTHER INFORMATION CONTACT: Jim Freeman, Advisory Committee Management Officer for the Department of Defense, 703-692-5952.

SUPPLEMENTARY INFORMATION: The Board is being re-established in accordance with the Federal Advisory Committee Act (FACA) of 1972 (5 U.S.C., Appendix, as amended) and 41 CFR 102-3.50(d). The Board's charter and contact information for the Board's Designated Federal Officer (DFO) can be found at http://www.facadatabase.gov/.

The Board provides the Secretary of Defense and the Deputy Secretary of Defense, through the Secretary of the Navy, independent advice and recommendations on matters relating to the Naval Postgraduate School and the Naval War College. These matters include, but are not limited to, organizational management, curricula and methods of instructions, facilities, and other matters of interest.

The Board is composed of no more than ten members who are eminent authorities in the fields of academia, business, national defense and security, the defense industry, and research and analysis. Membership appointments are authorized by the Secretary of Defense or the Deputy Secretary of Defense and administratively certified by the Secretary of the Navy for a term of service of one-to-four years, with annual renewals, in accordance with DoD policies and procedures. Board members, who are not full-time or permanent part-time Federal officers or employees, shall be appointed as experts or consultants pursuant to 5 U.S.C. 3109 to serve as special government employee members. Board members who are full-time or permanent part-time Federal officers or employees shall be appointed pursuant to 41 CFR 102-3.130(a) to serve as regular government employee members. No member, unless authorized by the Secretary of Defense or the Deputy Secretary of Defense, may serve more than two consecutive terms of service on the Board, including its subcommittees, or serve on more than two DoD federal advisory committees at one time. All members of the Board are appointed to provide advice on behalf of the Government on the basis of their best judgment without representing any particular point of view and in a manner that is free from conflict of interest. Except for reimbursement of official Board-related travel and per diem, Board members serve without compensation. The DoD may establish subcommittees, task forces, or working groups to support the Board. Currently, the DoD has approved two permanent subcommittees to the Board—the Naval Postgraduate School Subcommittee, and the Naval War College Subcommittee. The Naval Postgraduate School Subcommittee, comprised of no more than 15 members, shall focus on the Naval Postgraduate School, and the Secretary of Defense has approved the following non-voting ex-officio appointments to the Naval Postgraduate School Subcommittee—the Chief of Naval Personnel/Deputy Chief of Naval Operations for Manpower, Personnel, Training and Education Command; the Commanding General USMC Training and Education Command; the Commandant Army War College; the Chief of Naval Research; and the Commander and President of the Air University. The Naval Postgraduate School Subcommittee shall meet a minimum of two times a year. The Naval War College Subcommittee, comprised of no more than ten members, shall focus on the Naval War College, and the Secretary of Defense has approved the following ex-officio non-voting member to the Naval War College Subcommittee—the Chief of Naval Personnel/Deputy Chief of Naval Operations for Manpower, Personnel, Training and Education. The Naval War College Subcommittee shall meet a minimum of two times a year.

Subcommittees will not work independently of the Board and must report all recommendations and advice solely to the Board for full deliberation and discussion. Subcommittees, task forces, or working groups have no authority to make decisions and recommendations, verbally or in writing, on behalf of the Board. No subcommittee or any of its members can update or report, verbally or in writing, directly to the DoD or any Federal officers or employees. The Board's DFO, pursuant to DoD policy, must be a full-time or permanent part-time DoD employee, and must be in attendance for the duration of each and every Board/subcommittee meeting. The public or interested organizations may submit written statements to Board membership about the Board's mission and functions. Written statements may be submitted at any time or in response to the stated agenda of planned meeting of the Board. All written statements shall be submitted to the DFO for the Board, and this individual will ensure that the written statements are provided to the membership for their consideration.

Dated: June 7, 2016.
Aaron Siegel,
Alternate OSD Federal Register Liaison Officer, Department of Defense.

[FR Doc. 2016-13838 Filed 6-9-16; 8:45 am]

BILLING CODE 5001-06-P